NATIONAL AERONAUTICS AND SPACE ADMINISTRATION

[Notice: (21-027)]

Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Monday, June 14, 2021, 10:00 a.m. to 6:00 p.m., Eastern Time.

ADDRESSES: Virtual meeting via dial-in teleconference and WebEx only.

FOR FURTHER INFORMATION CONTACT: Ms. Karshelia Henderson, Science Mission Directorate, NASA Headquarters, Washington, DC 20546, (202) 358-2355 or khenderson@nasa.gov.

SUPPLEMENTARY INFORMATION: As noted above, this meeting will be available to the public telephonically and by WebEx only. The meeting event for attendees is: https://nasaenterprise.webex.com/nasaenterprise/j.php?MTID=mc069d0dce973dbdb5fde4e4d54d18eab. The event meeting number is 199 292 7638 and the password is PAC_June2021. For audio, when you join the WebEx event, you may use your computer or provide your phone number to receive a call back. Otherwise, call the U.S. toll conference number: 1-415-527-5035 and enter the access code 199 292 7638.

The agenda for the meeting includes the following topics:

—Planetary Science Division Update

—Planetary Science Division Research and Analysis Program Update

It is imperative that the meeting be held on these dates to accommodate the scheduling priorities of the key participants.

Patricia Rausch,
Advisory Committee Management Officer, National Aeronautics and Space Administration.

[FR Doc. 2021-09872 Filed 5-17-21; 8:45 am]

BILLING CODE 7510-13-P